DEPARTMENT OF STATE

[Public Notice 4717]

Bureau of Educational and Cultural Affairs Request for Grant Proposals: South Asian Teacher Training Project

SUMMARY: The Teacher Exchange Branch, Office of Global Educational Programs of the Bureau of Educational and Cultural Affairs (ECA) announces an open competition for the South Asian Teacher Training Project. Public and private non-profit organizations meeting the provisions described in Internal Revenue Code section 26 U.S.C. 501(c)(3) may submit proposals to develop a two-phased training program to enhance the skills of Indian and Pakistani secondary school administrators and secondary school teachers of English as a Foreign Language (EFL). Bureau funding of $500,000 is currently available to support one grant.

Program Information

Overview: The Bureau seeks detailed proposals from U.S. institutions of higher education and/or non-profit organizations in cooperation with a U.S. institution of higher education, that have expertise in the field of teaching English as a Foreign Language (EFL). The organization should also show an ability to develop and organize training and materials, which address broad issues of tolerance and conflict resolution. Proposals should demonstrate an understanding of the issues confronting English language education in India and Pakistan and demonstrate experience in training teachers and administrators and conducting programming in these countries. They should also show a familiarity with the overarching geo-political situation in the region. Demonstrated familiarity with the challenges of educational cooperation and team building between citizens of these two countries is desired. The grantee will conduct the following two-phased project: (1) The design and implementation of a U.S. based EFL training program; and (2) teacher training workshops in both India and Pakistan conducted by the teachers who attended the U.S. training program.

Project Elements

The proposal should reflect four overall elements: First, to produce a highly focused training program of about six weeks in duration that updates teachers in best practices in EFL at the secondary level; second, to provide the participants with “train-the-trainer” skills that will enable them to conduct workshops on program topics in their home countries in the future; third, to develop team building skills, mutual understanding, tolerance and trust between the participants; and fourth, to provide participants with opportunities to interact with Americans, thereby allowing them to gain awareness and understanding of U.S. culture and society.

Guidelines—Project Planning and Implementation

Grant Inception and Duration

The teacher-training program should be planned for breaks in the South Asian school year. Most likely this will be in summer 2005. The grantee should work closely with the Bureau to assess local conditions and determine the most feasible timeline for the various phases of the program.

Planning

In coordination with the Public Affairs Sections (PAS) of the U.S. Embassies in Islamabad and New Delhi, participants will be recruited and selected by the United States Educational Foundations (USEFs) in each country. Special efforts will be made to recruit teacher or teacher-trainers working in non-elite institutions with students from priority communities identified by the Embassies. Following U.S. training activities, PAS and USEFs will work with the local educational officials as appropriate to facilitate follow-on training activities.

The grantee institution will be responsible for conducting an initial planning visit to Pakistan, if feasible, and to India, to consult with representatives from the USEFs, U.S. Embassies, Ministries of Education, and local educators. Based on this trip, the grantee will assess the educational and teacher training needs in both countries as a basis for project development.

After the participants have been selected, but prior to their departure to the U.S., the USEFs in India and Pakistan will conduct pre-departure orientations for their country participants.

The orientations will provide information about the respective program, goals, and expectations of participants, as well as address issues about participants' stay in the U.S. The grantee will work closely with both USEFs to organize the orientations and will develop orientation packets for each participant that cover the aforementioned material. These packets will be sent to the USEFs in advance of the scheduled pre-departure orientations.

U.S.-Based Training

Programs must comply with J-1 visa regulations. Please refer to Solicitation Package for further information.

Participants will spend approximately six weeks in the U.S. in the EFL training program organized by the U.S. grantee. The training should meet the needs of the Indian and Pakistani participants through activities designed by U.S. education specialists with appropriate expertise in American EFL instruction, curriculum development, and training. During the project, training and materials should include, whenever possible, modeling of teaching tolerance, in which participants are trained in teaching tolerance, effective cross cultural communication, and mutual respect.

The program should have two components: a five-week intensive academic program and a one-week cultural and educational program in Washington, DC. The five-week academic program should address innovative EFL teaching methodologies and approaches and their implementation in their respective countries. Significant time should also be allotted for the inclusion of related professional activities outside the classroom which will introduce participants to U.S. education specialists, such as visits to schools, consultations with U.S. teachers, in-school mentoring, and attendance at professional meetings. Also, training should integrate experiences and materials that help participants to develop an understanding of the culture and political system of the United States as well as an appreciation of American diversity. At a minimum, a one-week experiential component should be included in the five-week academic program in which participants observe best practices in EFL instruction and training in a U.S. school. Among the topics to be addressed during the program are: computer literacy skills for EFL instruction, critical thinking, communication, conflict resolution, analytical and evaluation skills, and student development and motivation. In consultation with the Teacher Exchange Branch, the grantee should also plan and implement a three-to-five day site visit to Washington, DC. This visit will allow participants to meet representatives from the U.S. Department of State, as well as other government and private sector agencies, and visit other cultural and educational sites. This visit should be an integral part of the program, complementing and reinforcing the academic material of the training.

Follow-on Workshops

Proposals should outline practical and feasible in-country workshops, which build on the achievements of the U.S.-based training while promoting the continued exchanges of ideas among the participants and the U.S. grantee organization. The grantee will facilitate these in-country workshops at which participants will present what they have learned during the project to other professional colleagues. One workshop will take place in each country, each with a mixed group of teachers and administrators who attended the U.S. based-training, from both India and Pakistan.

Budget Guidelines

Applicants must submit a comprehensive budget for the entire program. There must be a summary budget as well as breakdowns reflecting both administrative and program budgets. Applicants may submit separate sub-budgets for each program component, phase, location, or activity to provide clarification. The Bureau anticipates awarding one grant, not to exceed $500,000, to support program and administrative costs required to implement the South Asian Teacher Training Project. Bureau guidelines require that organizations with less than four years experience in conducting international exchanges be limited to $60,000 in Bureau funding. Therefore, organizations with less than four years experience in conducting international exchanges are ineligible to apply under this competition. The Bureau encourages applicants to provide maximum levels of cost sharing and funding from private sources in support of its programs.

Allowable costs for the program include the following:

(1) Instructional costs, including salaries and benefits of grantee organization, honoraria for outside speakers, educational materials;

(2) Travel, lodging, meals, and incidentals for participants;

(3) Expenses associated with cultural activities planned for the participants (for example, tickets, transportation);

(4) Follow-on workshops in India and Pakistan; and

(5) Administrative costs.

Please refer to the Solicitation Package for complete budget guidelines and formatting instructions.

Announcement Title and Number: All correspondence with the Bureau concerning this RFGP should reference the South Asian Teacher Training Project ECA/A/S/X-04-06.

FOR FURTHER INFORMATION CONTACT: The Teacher Exchange Branch, Office of Global Educational Programs, ECA/A/S/X, Room 349, U.S. Department of State, SA-44, 301 4th Street, SW., Washington, DC 20547. Telephone: 202-619-6589, fax: 202-401-1433, or e-mail: MorrisonTA@state.gov to request a Solicitation Package. The Solicitation Package contains detailed award criteria, required application forms, specific budget instructions, and standard guidelines for proposal preparation. Please specify Bureau Program Officer Tracy Morrison on all other inquiries and correspondence.

Please read the complete Federal Register announcement before sending inquiries or submitting proposals. Once the RFGP deadline has passed, Bureau staff may not discuss this competition with applicants until the proposal review process has been completed.

To Download a Solicitation Package Via Internet: The entire Solicitation Package may be downloaded from the Bureau's Web site at http://exchanges.state.gov/education/RFGPs. Please read all information before downloading.

New OMB Requirement: AN OMB policy directive published in the Federal Register on Friday, June 27, 2003, requires that all organizations applying for Federal grants or cooperative agreements must provide a Dun and Bradstreet (D&B) Data Universal Numbering System (DUNS) number when applying for all Federal grants or cooperative agreements on or after October 1, 2003. The complete OMB policy directive can be referenced at http://www.whitehouse.gov/omb/fedreg/062703_grant_identifier.pdf. Please also visit the ECA Web site at http://exchanges.state.gov/education/rfgps/menu.htm for additional information on how to comply with this new directive.

Shipment and Deadline for Proposals: Important Note: The deadline for this competition is June 24, 2004. In light of heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. Delivery of proposal packages may not be made via local courier service or in person for this competition. Faxed documents will not be accepted at any time. Only proposals submitted as stated above will be considered.

Applicants must follow all instructions in the Solicitation Package. The original and 8 copies of the application should be sent to: U.S. Department of State, SA-44, Bureau of Educational and Cultural Affairs, Ref.: ECA/A/S/X/04-06, Program Management, ECA/EX/PM, Room 534, 301 4th Street, SW., Washington, DC 20547.

Applicants must also submit the “Executive Summary” and “Proposal Narrative” sections of the proposal in text (.txt) format on a PC-formatted disk. The Bureau will provide these files electronically to the Public Affairs Sections at the U.S. embassies for its review.

Diversity, Freedom and Democracy Guidelines: Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Adherence To All Regulations Governing the J Visa: The Bureau of Educational and Cultural Affairs is placing renewed emphasis on the secure and proper administration of Exchange Visitor (J visa) Programs and adherence by grantees and sponsors to all regulations governing the J visa. Therefore, proposals should demonstrate the applicant's capacity to meet all requirements governing the administration of Exchange Visitor Programs as set forth in 22 CFR 62, including the oversight of Responsible Officers and Alternate Responsible Officers, screening and selection of program participants, provision of pre-arrival information and orientation to participants, monitoring of participants, proper maintenance and security of forms, record-keeping, reporting and other requirements. The Grantee will be responsible for issuing DS-2019 forms to participants in this program.

A copy of the complete regulations governing the administration of Exchange Visitor (J) programs is available at http://exchanges.state.gov or from: United States Department of State, Office of Exchange Coordination and Designation, ECA/EC/ECD-SA-44, Room 734, 301 4th Street, SW., Washington, DC 20547, Telephone: (202) 401-9810, FAX: (202) 401-9809.

Review Process: The Bureau will acknowledge receipt of all proposals and will review them for technical eligibility. Proposals will be deemed ineligible if they do not fully adhere to the guidelines stated herein and in the Solicitation Package. All eligible proposals will be reviewed by the program office, as well as the U.S. Educational Foundations and Public Diplomacy sections overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards resides with the Bureau's Grants Officer.

Review Criteria: Technically eligible applications will be competitively reviewed according to the criteria stated below. These criteria are not rank ordered and all carry equal weight in the proposal evaluation:

1. Quality of the program idea: Proposals should exhibit originality, substance, precision, and relevance to the Bureau's mission.

2. Ability to achieve program objectives: Objectives should be reasonable, feasible, and flexible. Proposals should clearly demonstrate how the institution will meet the program's objectives and plan.

3. Support of Diversity: Proposals should demonstrate substantive support of the Bureau's policy on diversity. Achievable and relevant features should be cited in both program administration (selection of participants, program venue, and program evaluation) and program content (orientation and wrap-up sessions, program meetings, resource materials, and follow-up activities).

4. Institution's Record/Ability: Proposals should demonstrate an institutional record of successful exchange programs, including experience in training teachers and administrators and conducting programming in Pakistan and India; programming experience in cross-cultural communication, mutual understanding, tolerance and conflict resolution; and including responsible fiscal management and full compliance with all reporting requirements for past Bureau grants as determined by Bureau Grant Staff. The Bureau will consider the past performance of prior recipients and the demonstrated potential of new applicants.

5. Project Evaluation: Proposals should include a plan to evaluate the activity's success, both as the activities unfold and at the end of the program. A draft survey questionnaire or other technique plus a description of a methodology linking outcomes to original project objectives is recommended. Successful applicants will be expected to submit intermediate reports after each project component is concluded or quarterly, whichever is less frequent.

6. Cost-sharing: Proposals should maximize cost-sharing through other private sector support as well as institutional direct funding contributions.

Authority: Overall grant making authority for this program is contained in the Mutual Educational and Cultural Exchange Act of 1961, Pub. L. 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification: Final awards cannot be made until funds have been appropriated by Congress, allocated and committed through internal Bureau procedures.

Dated: May 6, 2004.
C. Miller Crouch,
Principal Deputy Assistant Secretary, Bureau of Educational and Cultural Affairs, Department of State.

[FR Doc. 04-10888 Filed 5-12-04; 8:45 am]

BILLING CODE 4710-05-P